DEPARTMENT OF COMMERCE

International Trade Administration

(A-122-840)

Notice of Correction to Notice of Final Results of Antidumping Duty Administrative Review: Carbon and Certain Alloy Steel Wire Rod from Canada

AGENCY: Import Administration, International Trade Administration, Department of Commerce.

EFFECTIVE DATE: December 22, 2004

FOR FURTHER INFORMATION CONTACT: Daniel O'Brien or David Neubacher, at (202) 482-1376 or (202) 482-5823, respectively; AD/CVD Operations, Office 1, Import Administration, International Trade Administration, U.S. Department of Commerce, 14th Street & Constitution Avenue, NW, Washington, DC 20230.

CORRECTION:

On November 24, 2004, the Department of Commerce (the Department) published its final results of the antidumping administrative review of the order of carbon and certain alloy steel wire rod (subject merchandise) from Canada for the period April 10, 2002, through September 30, 2003. See Notice of Final Results of Antidumping Duty Administrative Review: Carbon and Certain Alloy Steel Wire Rod from Canada 69 FR 68309 (November 24, 2004). Subsequent to the issuance of the final results, we identified an inadvertent error in the Federal Register.

In the “Assessment” section of the review notice, the Department indicated that it would “issue appropriate assessment instructions directly to CBP within 15 days of publication of these final results of review.” The “within 15 days of publication” description is incorrect in the notice. Section 356.8 of the applicable regulations provides that the Department shall not order liquidation until the “forty-first day after the date of publication of the notice ...” following an administrative review of merchandise exported from Canada or Mexico. Accordingly, the notice should be corrected to indicate that the Department will send assessment instructions to CBP “on or after the 41st day after publication.”

This correction is issued and published in accordance with section 777(i) of the Tariff Act of 1930, as amended.

Dated: December 29, 2004.
Barbara E. Tillman,
Acting Assistant Secretary for Import Administration.

[FR Doc. 05-194 Filed 1-4-05; 8:45 am]

BILLING CODE 3510-DS-S